NUCLEAR REGULATORY COMMISSION

Sunshine Act; Meetings

AGENCY HOLDING THE MEETINGS: Nuclear Regulatory Commission.

DATE: Weeks of May 22, 29; June 5, 12, 19, 26, 2006.

PLACE: Commissioners' Conference Room, 11555 Rockville Pike, Rockville, Maryland.

STATUS: Public and closed.

MATTERS TO BE CONSIDERED:

Week of May 22, 2006

Wednesday, May 24, 2006

9:30 a.m. Discussion of Security Issues (Closed—Ex.1).

1:30 p.m. All Employees Meeting (Public Meeting), Marriott Bethesda North Hotel, Salons D-H, 5701 Marinelli Road, Rockville, MD 20852.

Thursday, May 25, 2006

9:50 a.m. Affirmation Session (Public Meeting) Tentative.

a. Andrew Siemaszko, Docket No. IA-05-021, Unpublished Licensing Board Order (Dec. 22, 2005) (Tentative).

b. Final Rule: National Source Tracking of Sealed Sources (RIN 3150-AH48) (Tentative).

c. Immediately Effective Final Rule—10 CFR 73.57a “Relief From Fingerprinting and Criminal History Records Check for Designated Categories of Individuals” (Tentative).

Week of May 29, 2006—Tentative

Wednesday, May 31, 2006

1 p.m. Discussion of Security Issues (Closed—Ex. 1).

Week of June 5, 2006—Tentative

Wednesday, June 7, 2006

9 a.m. Discussion of Security Issues (Closed—Ex. 1 & 3).

Week of June 12, 2006—Tentative

There are no meetings scheduled for the week of June 12, 2006.

Week of June 19, 2006—Tentative

There are no meetings scheduled for the week of June 19, 2006.

Week of June 26, 2006—Tentative

There are no meetings scheduled for the week of June 26, 2006.

The schedule for Commission meetings is subject to change on short notice. To verify the status of meetings call (recording)—(301) 415-1292. Contact person for more information: Michelle Schroll, (301) 415-1662.

The NRC Commission Meeting Schedule can be found on the Internet at: http://www.nrc.gov/what-we-do/policy-making/schedule.html.

The NRC provides reasonable accommodation to individuals with disabilities where appropriate. If you need a reasonable accommodation to participate in these public meetings, or need this meeting notice or the transcript or other information from the public meetings in another format (e.g., braille, large print), please notify the NRC's Disability program Coordinator, Deborah Chan, at 301-415-7041, TDD: 301-415-2100, or by e-mail at DLC@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 18, 2006.
R. Michelle Schroll,
Office of the Secretary.

[FR Doc. 06-4853 Filed 5-22-06; 10:07 am]

BILLING CODE 7590-01-M